DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 26, 2007, vol. 72, no. 57, page 14162. This collection establishes requirements for the certification, operation, and maintenance of light-sport aircraft.

DATES: Please submit comments by August 6, 2007.

FOR FURTHER INFORMATION CONTACT: Carla Mauney at Carla.Mauney@faa.gov.

SUPPLEMENTARY INFORMATION:

Federal Aviation Administration (FAA)

Title: Certification of Airmen for the Operation of Light-Sport Aircraft.

Type of Request: Extension of a currently approved collection.

OMB Control Number: 2120-0690.

Forms(s): 8130-6, 8130-7, 8130-15, 8710-11, 337, 8110-14, 8110-28, 8610-2.

Affected Public: An estimated 28,449 Respondents.

Frequency: This information is collected on occasion.

Estimated Average Burden Per Response: Approximately 1.27 hours per response.

Estimated Annual Burden Hours: An estimated 72,582 hours annually.

Abstract: For the operation of light-sport aircraft, the FAA has established a sport pilot certificate and a flight instructor certificate with a sport pilot rating, requirements for student pilots and private pilots to operate these aircraft and to revise the recreational pilot certificate to align it with privileges proposed for the new sport pilot certificate, and a new repairman certificate with ratings for individuals who would inspect and maintain light-sport aircraft. In addition, the FAA has established a new category of special airworthiness certificate for light-sport aircraft that meet a consensus standard.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 27, 2007.
Carla Mauney,
FAA Information Collection Clearance Officer, IT Enterprises Business Services Division, AES-200.

[FR Doc. 07-3256 Filed 7-3-07; 8:45 am]

BILLING CODE 4910-13-M